DEPARTMENT OF THE INTERIOR

Bureau of Land Management

[CO200-LLCOF00000-L16520000-XX0000]

Notice of Meeting, Rio Grande Natural Area Commission

AGENCY: Bureau of Land Management, Interior.

ACTION: Notice of public meeting.

SUMMARY: In accordance with the Federal Land Policy and Management Act of 1976 (FLPMA) and the Federal Advisory Committee Act of 1972 (FACA), the U.S. Department of the Interior, Bureau of Land Management (BLM) Rio Grande Natural Area Commission will meet as indicated below.

DATES: The meeting will be held from 10 a.m. to 3 p.m. on December 14, 2011.

ADDRESSES: Hampton Inn Alamosa, 710 Mariposa Street, Alamosa, CO 81101.

FOR FURTHER INFORMATION CONTACT: Denise Adamic, Public Affairs Specialist, BLM Front Range District Office, 3028 East Main, Canon City, CO 81212. Phone: (719) 269-8553. Email: dadamic@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: The Rio Grande Natural Area Commission was established in the Rio Grande Natural Area Act (16 U.S.C. 460rrr-2). The nine-member Commission advises the Secretary of the Interior, through the BLM, concerning the preparation and implementation of a management plan relating to non-Federal land in the Rio Grande Natural Area, as directed by law. Planned agenda topics include: Discussing resource concerns and goals that should be addressed in the management plan, who stakeholders are in the area, and how internal and external communications will be addressed. In addition, the BLM will give a presentation on Tribal Consultation. This meeting is open to the public. The public may offer oral comments at 2:30 p.m. or written statements may be submitted for the Commission's consideration. Please send written comments to Denise Adamic at the address above by December 12, 2011. Depending on the number of persons wishing to comment and time available, the time for individual oral comments may be limited. Summary minutes for the Commission Meeting will be maintained in the San Luis Valley Field Office and will be available for public inspection and reproduction during regular business hours within 30 days following the meeting. Meeting minutes and agenda are also available at: http://www.blm.gov/co/st/en/fo/slvfo.html.

Dated: November 23, 2011.
Steven Hall,
Acting State Director.

[FR Doc. 2011-30838 Filed 11-28-11; 8:45 am]

BILLING CODE 4310-JB-P